DEPARTMENT OF COMMERCE

National Oceanic and Atmospheric Administration

RIN 0648-XD471

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Groundfish Recreational Advisory Panel to consider actions affecting New England fisheries in the exclusive economic zone (EEZ). Recommendations from this group will be brought to the full Council for formal consideration and action, if appropriate.

DATES: This meeting will be held on Tuesday, September 16, 2014 at 8 a.m.

ADDRESSES: Meeting address: The meeting will be held at the DoubleTree by Hilton, 363 Maine Mall Road, South Portland, ME 04106; telephone: (207) 775-6161; fax: (207) 756-6622.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the agenda are: Discussion of Amendment 18, A18, (fleet diversity and accumulation limits) in regards to draft inshore/offshore alternatives with respect to fleet diversity and Gulf of Maine (GOM) cod. The panel will also discuss the development of Advisory Panel (AP) recommendations. If time permits, also on the agenda is Framework Adjustment 53, (specifications and management measures) with regard to specifications for groundfish stocks (GOM cod and haddock; GOM and Georges Bank (GB) winter flounder; pollock; GB yellowtail flounder, cod and haddock). Additionally, Management Measures (expansion of the GOM cod inshore spawning closure, roll-over provision for specifications, and other measures) are on the agenda. The AP will also be developing AP Recommendations. The committee will discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: August 26, 2014.
William D. Chappell,
Acting Deputy Director, Office of Sustainable Fisheries, National Marine Fisheries Service.

[FR Doc. 2014-20602 Filed 8-28-14; 8:45 am]

BILLING CODE 3510-22-P